DEPARTMENT OF COMMERCE

[I.D. 101602B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Revisions to the American Lobster Requirements for Historical Participation in Areas 3, 4, and 5.

Form Number(s): None.

OMB Approval Number: None.

Type of Request: Emergency.

Burden Hours: 308.

Number of Respondents: 934.

Average Hours Per Response: 15 minutes for a cover letter; 60 minutes per affidavit; and 15 minutes to provide corroborating documentation in support of the loss of eligibility documentation.

Needs and Uses: NOAA is seeking approval for revisions to requirements that have been approved under OMB Control No. 0648-0450. The revisions would be for a cover letter, for documentation purposes, showing proof of meeting eligibility criteria for this limited entry program, and for an appeals process for documentary hardship (where eligibility documentation is unavailable due to fire, flood, or other factors beyond the applicant's control). This information is needed to more effectively manage the program and to provide fairness.

Affected Public: Business or other for-profit organizations, individuals or households.

Frequency: On occasion.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by November 1, 2002, to David Rostker, OMB Desk Officer, Room 10202, New Executive Office Building, Washington, DC 20503.

Dated: October 11, 2002.
Gwellnar Banks,
Management Analyst, Office of the Chief Information Officer.

[FR Doc. 02-26696 Filed 10-18-02; 8:45 am]

BILLING CODE 3510-22-S